DEPARTMENT OF HOUSING AND URBAN DEVELOPMENT

[Docket No. FR-5824-FA-01]

Announcement of Funding Awards for the HUD-Veterans Affairs Supportive Housing (HUD-VASH) Program for Fiscal Years (FY) 2012 and 2013

AGENCY: Office of the Assistant Secretary for Public and Indian Housing, HUD.

ACTION: Announcement of Funding Awards.

SUMMARY: In accordance with Section 102(a)(4)(C) of the Department of Housing and Urban Development Reform Act of 1989, this announcement notifies the public of funding decisions made by the Department for the FY 2012 and 2013 HUD-VASH program. This announcement contains the consolidated names and addresses of those award recipients selected for funding under the Consolidated and Further Continuing Appropriations Act, 2012 (“2012 Appropriations Act”) and the Consolidated and Further Continuing Appropriations Act, 2013 (“2013 Appropriations Act”).

FOR FURTHER INFORMATION CONTACT: Michael S. Dennis, Director, Housing Voucher Programs, Office of Public and Indian Housing, Department of Housing and Urban Development, 451 Seventh Street SW., Room 4228, Washington, DC 20410, telephone number 202-402-4059. For the hearing or speech impaired, this number may be accessed via TTY (text telephone) by calling the Federal Relay Service at telephone number 800-877-8339. (Other than the “800” TTY number, these telephone numbers are not toll-free.)

SUPPLEMENTARY INFORMATION: The 2012 and 2013 Appropriations Acts made $75 million available each year for HUD-VASH, an initiative that combines HUD Housing Choice Voucher (HCV) rental assistance for homeless veterans with case management and clinical services provided by the Department of Veterans Affairs (VA) at its medical centers and in the community. The HCV program is authorized under section 8(o)(19) of the United States Housing Act of 1937. The 2012 and 2013 Appropriations Acts require HUD to distribute assistance without competition, to public housing agencies (PHAs) that partner with eligible Veterans Affairs Medical Centers (VAMCs) or other entities as designated by the VA. As required by statute, selection was based on geographical need for such assistance, PHA performance, and other factors as specified by HUD in consultation with the VA. Geographic need was identified by using HUD's point-in-time data submitted by Continuums of Care (CoCs), as well as VAMC data on the number of contacts with homeless Veterans. After determining which areas of the country had the highest number of homeless Veterans, the VA Central Office identified VA facilities in the corresponding communities and HUD then invited PHAs near the identified VA facilities to apply for the vouchers, taking into consideration the PHAs' administrative performance.

On May 6, 2008 (73 FR 25026), HUD published in the Federal Register a notice that set forth the policies and procedures for the administration of tenant-based Section 8 HCV rental assistance under the HUD-VASH program administered by local PHAs that have partnered with local VA medical centers. On May 19, 2008 (73 FR 28863), HUD corrected the May 6, 2008 notice. On March 23, 2012, HUD published a revised implementation notice in the Federal Register.

In accordance with Section 102(a)(4)(C) of the Department of Housing and Urban Development Reform Act of 1989 (42 U.S.C. 3545), today's Federal Register publication lists the names of the PHAs awarded FY 2012 (Appendix A) and 2013 HUD-VASH vouchers (Appendix B), the partnering VAMC, the number of vouchers awarded and the funding amounts.

Dated: October 20, 2014.
Jemine A. Bryon,
Acting Assistant Secretary for Public and Indian Housing.

Appendix A

Fiscal Year 2012 Funding Announcements for the HUD-Veterans Affairs Supportive Housing (VASH) Program
Recipient | Partnering VA medical facility | Address | City | State | Zip code | Number of vouchers awarded | 1 year budget authority for vouchers awarded
Alaska Housing Finance Corporation | Alaska VA HCS | PO Box 101020 | Anchorage | AK | 99510 | 25 | $164,926
Alaska Housing Finance Corporation | Alaska VA HCS | PO Box 101020 | Anchorage | AK | 99510 | 25 | $164,926
Housing Authority of the Birmingham District | Birmingham VAMC | 1826 3rd Avenue S | Birmingham | AL | 35233 | 50 | $260,756
Housing Authority of the City of Montgomery | Central AL HCS | 525 S Lawrence St | Montgomery | AL | 36104 | 25 | $135,481
HA Tuscaloosa | Tuscaloosa VAMC | PO Box 2281 | Tuscaloosa | AL | 35403 | 25 | $86,825
North Little Rock Housing Authority | Eugene J. Towbin VAMC | PO Box 516 | North Little Rock | AR | 72115 | 25 | $95,930
Fayetteville Housing Authority | VA HCS of the Ozarks | #1 North School Avenue | Fayetteville | AR | 72701 | 25 | $85,820
City of Phoenix Housing Department | Phoenix VA VA HCS | 251 W Washington Street | Phoenix | AZ | 85003 | 100 | $616,491
Housing and Community Development Tucson | Southern AZ HCS | PO Box 27210 | Tucson | AZ | 85726 | 75 | $403,977
City of Mesa HA | Phoenix VA VA HCS/Mesa CBOC | PO Box 1466 | Mesa | AZ | 85211 | 25 | $148,054
Housing Authority of Cochise County | Southern AZ HCS/Sierra Vista CBOC | PO Box 167 | Bisbee | AZ | 85603 | 25 | $137,098
Housing Authority of the City of Yuma | Southern AZ HCS/Yuma CBOC | 420 S. Madison Avenue | Yuma | AZ | 85364 | 25 | $161,403
Mohave County Housing Authority | Northern Arizona HCS | PO Box 7000 | Kingman | AZ | 86402 | 25 | $136,099
Housing Authority of the City & County of San Francisco | San Francisco VAMC/Downtown CBOC | 440 Turk Street | San Francisco | CA | 94102 | 200 | $2,728,301
Housing Authority of the County of Los Angeles | VA Greater Los Angeles HCS | 2 S Coral Circle | Monterey Park | CA | 91755 | 200 | $1,750,826
Oakland Housing Authority | VA Northern CA HCS/Oakland BHC | 1619 Harrison Street | Oakland | CA | 94612 | 50 | $500,366
Housing Authority of the City of Los Angeles | VA Greater Los Angeles HCS | 2600 Wilshire Blvd | Los Angeles | CA | 90057 | 600 | $5,413,328
Housing Authority City of Fresno | VA Central CA HCS | PO Box 11985 | Fresno | CA | 93776 | 50 | $275,518
County of Sacramento Housing Authority | Sacramento VAMC | 801 12th Street | Sacramento | CA | 95814 | 75 | $493,838
Housing Authority of the County of Kern | Greater LA HCS/Bakersfield CBOC | 601—24th Street | Bakersfield | CA | 93301 | 25 | $125,832
Housing Authority of the County of San Bernardino | Loma Linda HCS | 715 E. Brier Dr | San Bernardino | CA | 92408 | 50 | $319,597
Housing Authority of the County of Santa Barbara | VA Greater LA HCS/Santa Barbara CBOC | PO Box 397 | Lompoc | CA | 93438 | 25 | $250,719
County of Merced Housing Authority | VA Central CA HCS/Merced CBOC | 405 U Street | Merced | CA | 95341 | 25 | $169,485
County of San Joaquin Housing Auth | Palo Alto HCS/Stockton CBOC | PO Box 447 | Stockton | CA | 95201 | 25 | $139,930
County of Stanislaus Housing Auth | Palo Alto HCS/Modesto CBOC | PO Box 581918 | Modesto | CA | 95358 | 25 | $162,286
Housing Authority of the County of Riverside | Loma Linda HCS | 5555 Arlington Avenue | Riverside | CA | 92504 | 125 | $990,051
County of Monterey Hsg Auth | Palo Alto HCS/Seaside CBOC | 123 Rico Street | Salinas | CA | 93907 | 25 | $190,775
Housing Authority of the City of San Buenaventura | VA Greater Los Angeles HCS/Oxnard CBOC | 995 Riverside Street | Ventura | CA | 93001 | 25 | $271,148
County of Butte Hsg Auth | VA Northern CA HCS/Chico CBOC | 2039 Forest Ave Suite #10 | Chico | CA | 95928 | 25 | $137,162
Housing Authority of the County Santa Clara | Palo Alto HCS Menlo Park Division | 505 W Julian Street | San Jose | CA | 95110 | 100 | $1,193,421
City of Pittsburg Hsg Auth | VA Northern CA HCS/Martinez OPC | 916 Cumberland Street | Pittsburg | CA | 94565 | 50 | $501,317
San Diego Housing Commission | San Diego VAMC | 1122 Broadway Suite 300 | San Diego | CA | 92101 | 75 | $635,558
Housing Authority of the City of San Luis Obispo | VA Greater LA HCS/San Luis Obispo CBOC | PO Box 1289 | San Luis Obispo | CA | 93406 | 50 | $391,745
City of Long Beach Housing Authority | Long Beach HCS | 521 East 4th Street | Long Beach | CA | 90802 | 50 | $432,262
Santa Cruz County Hsg Auth | Palo Alto HCS/San Jose CBOC | 2931 Mission Street | Santa Cruz | CA | 95060 | 50 | $585,103
Housing Authority of the City of Pasadena | Greater LA HCS/Pasadena CBOC | 649 N. Fair Oaks Ave | Pasadena | CA | 91103 | 25 | $213,546
Mendocino County HA | San Francisco VAMC/Ukiah CBOC | 1076 N State Street | Ukiah | CA | 95482 | 25 | $108,210
City of Santa Rosa | San Francisco VAMC/Santa Rosa CBOC | PO Box 1806 | Santa Rosa | CA | 95402 | 50 | $445,331
Orange County Housing Authority | Long Beach HCS/Santa Ana-Bristol Medical Center | 1770 North Broadway | Santa Ana | CA | 92706 | 75 | $884,560
Housing Authority of the County of San Diego | San Diego VAMC | 3989 Ruffin Road | San Diego | CA | 92123 | 75 | $600,635
Placer County Housing Authority | Sierra Nevada HCS/Sierra Foothills CBOC | PO Box 5346 | Auburn | CA | 95604 | 10 | $89,144
County of Humboldt Hsg Auth | San Francisco VAMC/Eureka CBOC | 735 West Everding Street | Eureka | CA | 95503 | 25 | $145,837
Alameda County Hsg Auth | Palo Alto VAMC/Fremont CBOC | 22941 Atherton Street | Hayward | CA | 94541 | 25 | $279,249
Housing Authority of the City and County of Denver | VA Eastern CO HCS | Box 40305, Mile High Station | Denver | CO | 80204 | 35 | $218,253
Fort Collins Housing Authority | Cheyenne VAMC/Fort Collins CBOC | 1715 W. Mountain Ave | Ft. Collins | CO | 80521 | 15 | $98,768
Grand Junction Housing Authority | Grand Junction VAMC | 1011 North Tenth Street | Grand Junction | CO | 81501 | 40 | $188,902
Aurora Housing Authority | VA Eastern CO HCS | 10745 E Kentucky Avenue | Aurora | CO | 80012 | 25 | $147,415
Adams County Housing Authority | VA Eastern CO HCS | 7190 Colorado Boulevard | Commerce City | CO | 80022 | 25 | $207,380
Boulder County Housing Authority | VA Eastern CO HCS | PO Box 471 | Boulder | CO | 80304 | 25 | $229,620
Colorado Department of Local Affairs | VA Eastern CO HCS/Colorado Springs CBOC | 1313 Sherman St Room 323 | Denver | CO | 80203 | 25 | $148,626
Colorado Department of Local Affairs | VA Eastern CO HCS/Pueblo CBOC | 1313 Sherman St Room 323 | Denver | CO | 80203 | 40 | $237,802
Colorado Division of Housing | VA Eastern CO HCS | 1313 Sherman Street | Denver | CO | 80203 | 40 | $270,703
Hartford Housing Authority | VA CT HCS/Newington VAMC | 180 Overlook Terrace | Hartford | CT | 06106 | 50 | $397,939
Hsg Authority of the City of New Haven | VA CT HCS/West Haven VAMC | PO Box 1912 | New Haven | CT | 06511 | 50 | $554,148
Waterbury Housing Authority | West Haven VAMC/Waterbury CBOC | 2 Lakewood Road | Waterbury | CT | 06704 | 40 | $257,629
West Haven Housing Authority | VA CT HCS/West Haven VAMC | 15 Glade Street | West Haven | CT | 06516 | 15 | $137,064
Connecticut Department of Social Services | VA CT HCS/West Haven VAMC | 25 Sigourney Street | Hartford | CT | 06106 | 10 | $108,384
D.C. Housing Authority | Washington DC VAMC | 1133 N Capitol Street NE | Washington | DC | 20002 | 150 | $1,548,748
Wilmington Housing Authority | Wilmington VAMC | 400 Walnut Street | Wilmington | DE | 19801 | 25 | $168,331
Jacksonville Housing Authority | North FL/South GA HCS—Jacksonville OPC | 1300 Broad Street | Jacksonville | FL | 32202 | 100 | $500,890
Tampa Housing Authority | James A Haley VAMC | 1529 W Main Street | Tampa | FL | 33607 | 75 | $481,405
Orlando Housing Authority | Orlando VAMC | 390 North Bumby Avenue | Orlando | FL | 32803 | 75 | $518,201
Miami Dade Public Housing and Community Dev | Bruce W. Carter VAMC | 701 NW 1st Court | Miami | FL | 33136 | 75 | $795,467
Housing Authority of City of Daytona Beach | Orlando VAMC/Daytona Beach CBOC | 211 N. Ridgewood Ave | Daytona Beach | FL | 32114 | 50 | $262,150
West Palm Beach Housing Authority | West Palm Beach VAMC | 1715 Division Avenue | West Palm Beach | FL | 33407 | 60 | $426,795
Housing Authority of the City of Fort Lauderdale | Bruce A Carter VAMC/Broward Co. VA Clinic | 437 SW 4th Avenue | Fort Lauderdale | FL | 33315 | 50 | $445,045
Panama City Housing Authority | Gulf Coast HCS/Panama City OPC | 804 E 15th Street | Panama City | FL | 32405 | 15 | $68,724
Housing Authority of the City of Titusville | Orlando VAMC/Viera CBOC | 524 S Hopkins Avenue | Titusville | FL | 32796 | 25 | $121,971
Ocala Housing Authority | Malcolm Randall VAMC/Ocala CBOC | Post Office Box 2468 | Ocala | FL | 34478 | 25 | $124,997
Crestview Housing Authority | Gulf Coast HCS/Joint Ambulatory Care Center | 371 W Hickory Avenue | Crestview | FL | 32536 | 15 | $82,637
Housing Authority of the City of Fort Myers | Bay Pines VAMC/Ft. Myers CBOC | 4224 Renaissance Preserve Way | Fort Myers | FL | 33916 | 25 | $165,548
Pinellas County Housing Authority | Bay Pines VAMC/St. Petersburg CBOC | 11479 Ulmerton Road | Largo | FL | 33778 | 100 | $734,978
Gainesville Housing Authority | Malcolm Randall VAMC | Post Office Box 1468 | Gainesville | FL | 32602 | 100 | $556,602
Pasco County Housing Authority | James A Haley VAMC/New Port Richey CBOC | 14517 7th Street | Dade City | FL | 33523 | 25 | $193,683
Walton County Housing Authority | Gulf Coast HCS/Joint Ambulatory Care Center | Post Office Box 1258 | Defuniak Springs | FL | 32435 | 10 | $55,490
Housing Authority of the City of Augusta | Charlie Norwood VAMC | PO Box 3246 | Augusta | GA | 30914 | 25 | $109,544
Housing Authority of Savannah | Ralph H Johnson VAMC | PO Box 1179 | Savannah | GA | 31402 | 15 | $88,538
Housing Authority of the City of Atlanta | Atlanta VAMC | 230 John Wesley Dobbs N.E | Atlanta | GA | 30303 | 25 | $255,095
Housing Authority of the City of Marietta | Atlanta VAMC | PO Box K | Marietta | GA | 30061 | 50 | $342,033
Housing Authority of the City of Decatur | Atlanta VAMC | 750 Commerce Drive | Decatur | GA | 30030 | 25 | $179,652
Housing Authority of the City of College Park | Atlanta VAMC | 2000 W. Princeton Avenue | College Park | GA | 30337 | 50 | $355,437
Housing Authority of the County of Dekalb | Atlanta VAMC | 750 Commerce Drive, Suite 201 | Decatur | GA | 30030 | 25 | $145,627
Housing Authority of the County of Dekalb | Atlanta VAMC/East Point CBOC | 750 Commerce Drive, Suite 201 | Decatur | GA | 30030 | 50 | $291,254
Hawaii Public Housing Authority | Spark M. Matsunaga VAMC | PO Box 17907 | Honolulu | HI | 96817 | 25 | $212,002
Hawaii Public Housing Authority | Spark M. Matsunaga VAMC | PO Box 17907 | Honolulu | HI | 96817 | 50 | $424,004
Davenport Housing Commission | Iowa City VAMC/Davenport VA Clinic | 501 W 3rd Street | Davenport | IA | 52801 | 15 | $83,870
Boise City Housing Authority | Boise VAMC | 1276 River Street | Boise | ID | 83702 | 25 | $110,698
Idaho Housing and Finance Association | Spokane VAMC/Coeur d'Alene CBOC | PO Box 7899 | Boise | ID | 83707 | 25 | $106,331
Chicago Housing Authority | Jesse Brown VAMC | 60 E. Van Buren St | Chicago | IL | 60605 | 100 | $769,557
Housing Authority of the County of Cook | Edward Hines Jr. VAMC | 175 W. Jackson | Chicago | IL | 60604 | 100 | $760,872
McHenry County Housing Authority | Lovell Federal Health Care Center/McHenry CBOC | PO Box 1109 | Woodstock | IL | 60098 | 15 | $115,777
Chicago Housing Authority | Jesse Brown VAMC Chicago | 60 E. Van Buren St | Chicago | IL | 60605 | 35 | $269,345
Fort Wayne Housing Authority | VA Northern IN HCS/Fort Wayne Campus | PO Box 13489 | Fort Wayne | IN | 46869 | 15 | $68,375
Housing Authority of the City of Muncie | VA Northern IN HCS/Muncie CBOC | 409 E 1st Street | Muncie | IN | 47302 | 15 | $83,276
Kokomo Housing Authority | VA Northern IN HCS/Peru CBOC | PO Box 1207 | Kokomo | IN | 46903 | 15 | $78,471
Housing Authority of the City of Gary | Jesse Brown VAMC/Adam Benjamin, Jr. OPC | 578 Broadway | Gary | IN | 46402 | 15 | $111,862
Housing Authority of the City of Evansville | Marion VAMC/Evansville OPC | 500 Court Street | Evansville | IN | 47708 | 15 | $76,310
Indianapolis Housing Agency | Richard L Roudebush VAMC | 1919 North Meridian Street | Indianapolis | IN | 46202 | 50 | $240,884
Housing Authority of the City of Bloomington | Richard L Roudebush VAMC/Bloomington CBOC | 1007 N. Summit Street | Bloomington | IN | 47404 | 25 | $132,445
Housing Authority of the City of Marion | Marion VAMC | 601 S Adams Street | Marion | IN | 46953 | 15 | $45,876
Indiana Housing and Community Development Authority | VA Northern IN HCS/South Bend VA OPC | 30 South Meridian | Indianapolis | IN | 46204 | 15 | $78,939
Topeka Housing Authority | Colmery-O'Neil VAMC | 2010 SE California Avenue | Topeka | KS | 66607 | 25 | $93,101
Wichita Housing Authority | Robert J. Dole VAMC | 332 Riverview Street | Wichita | KS | 67203 | 25 | $124,035
Louisville Metro Housing Authority | Robley Rex VAMC | 420 S 8th Street | Louisville | KY | 40203 | 50 | $237,419
Housing Authority of Lexington | Lexington VAMC | 300 West New Circle Road | Lexington | KY | 40505 | 50 | $243,040
Boone County Fiscal Court | Cincinnati VAMC/Florence CBOC | PO Box 536 | Burlington | KY | 41005 | 20 | $114,063
Covington CDA | Cincinnati VAMC/Bellevue CBOC | 638 Madison Avenue, 5th Floor | Covington | KY | 41014 | 25 | $83,588
Housing Authority of New Orleans | Southeast LA HCS | 4100 Touro Street | New Orleans | LA | 70122 | 25 | $180,830
Housing Authority of East Baton Rouge | Southeast LA HCS/Baton Rouge CBOC | 4731 North Blvd | Baton Rouge | LA | 70806 | 25 | $193,817
Housing Authority of the City of Lafayette | Alexandria VAMC/LaFayette CBOC | 115 Katie Drive | Lafayette | LA | 70501 | 25 | $94,818
Bossier Parish Section 8 | Overton Brooks VAMC Shreveport | 3022 Old Minden Road | Bossier City | LA | 71112 | 25 | $100,187
Housing Authority of New Orleans | SE Louisiana HCS | 4100 Touro Street | New Orleans | LA | 70122 | 25 | $180,830
Boston Housing Authority | Boston VAMC | 52 Chauncy Street | Boston | MA | 02111 | 75 | $771,250
Cambridge Housing Authority | Boston VAMC | 675 Massachusetts Avenue | Cambridge | MA | 02139 | 40 | $456,945
New Bedford Housing Authority | Providence VAMC/New Bedford CBOC | 134 South Second Street | New Bedford | MA | 02741 | 25 | $150,868
Northampton Housing Authority | Northampton VAMC | 49 Old South Street—Suite 1 | Northampton | MA | 01060 | 50 | $265,816
Chelmsford Housing Authority | Edith Nourse Rogers Memorial VAMC/Lowell CBOC | 10 Wilson Street | Chelmsford | MA | 01824 | 50 | $419,309
Department of Housing & Community Development | Northampton VAMC/Worcester CBOC | 100 Cambridge Street, Suite 300 | Boston | MA | 02114 | 25 | $234,648
Department of Housing & Community Development | Boston VAMC/Brockton Campus | 100 Cambridge Street, Suite 300 | Boston | MA | 02114 | 15 | $140,789
Department of Housing & Community Development | Edith Nourse Rogers Memorial VAMC/Haverhill CBOC | 100 Cambridge Street, Suite 300 | Boston | MA | 02114 | 25 | $234,648
Department of Housing & Community Development | Boston VAMC/Quincy OPC | 100 Cambridge Street, Suite 300 | Boston | MA | 02114 | 40 | $375,436
Housing Authority of Baltimore City | Baltimore VAMC | 417 E Fayette Street | Baltimore | MD | 21202 | 75 | $684,687
Housing Opprty Com of Montgomery Co | Washington DC VAMC | 10400 Detrick Avenue | Kensington | MD | 20895 | 15 | $169,502
Housing Authority of Prince Georges County | Washington DC VAMC | 9400 Peppercorn Place | Largo | MD | 20774 | 25 | $282,944
Cecil County Housing Agency | Perry Point VAMC | 200 Chesapeake Blvd | Elkton | MD | 21921 | 25 | $157,694
Baltimore County Housing Authority | Baltimore VAMC | Drum Castle Government Center | Baltimore | MD | 21212 | 25 | $201,335
MD Dept. of Housing and Community Development | VA MD HCS/Pokomoke City OPC | 100 Community Place | Crownsville | MD | 21032 | 15 | $118,669
Maine State Housing Authority | VA Maine HCS | 353 Water Street | Augusta | ME | 04330 | 15 | $79,308
Flint Housing Commission | Ann Arbor HCS/Flint OPC | 3820 Richfield Road | Flint | MI | 48506 | 25 | $143,085
Battle Creek Housing Commission | Battle Creek VAMC | 250 Champion Street | Battle Creek | MI | 49017 | 25 | $91,475
Lansing Housing Commission | Battle Creek VAMC/Lansing CBOC | 310 Seymour Avenue | Lansing | MI | 48933 | 25 | $122,860
Ann Arbor Housing Commission | Ann Arbor HCS | 727 Miller Avenue | Ann Arbor | MI | 48103 | 25 | $130,643
Muskegon Housing Commission | Battle Creek VAMC/Muskegon OPC | 1080 Terrace | Muskegon | MI | 49442 | 15 | $73,429
Kent County Housing Commission | Battle Creek VAMC/Grand Rapids OPC | 82 Ionia Avenue, NW | Grand Rapids | MI | 49503 | 50 | $308,209
Michigan State Housing Development Authority | John Dingell VAMC | 735 E. Michigan Avenue | Lansing | MI | 48912 | 75 | $472,343
Public Housing Agency of the City of St. Paul | Minneapolis VAMC | 555 N. Wabasha Street | Saint Paul | MN | 55102 | 40 | $236,711
HRA of Duluth | Minneapolis VAMC/Hibbing CBOC | 222 East Second Street PO Box 16900 | Duluth | MN | 55816 | 5 | $23,183
HRA of St. Cloud | St. Cloud VAMC | 1225 W. Saint Germain | Saint Cloud | MN | 56301 | 15 | $66,205
Mankato EDA | Minneapolis VAMC | PO Box 3368 | Mankato | MN | 56002 | 5 | $27,165
Metropolitan Council | Minneapolis VAMC | 390 North Robert Street | St. Paul | MN | 55101 | 50 | $403,079
Olmsted County HRA | Minneapolis VAMC (Rochester) | 2122 Campus Drive SE | Rochester | MN | 55904 | 10 | $62,168
Housing Authority of Kansas City | Kansas City VAMC | 920 Main Street, Suite 701 | Kansas City | MO | 64106 | 50 | $290,042
St. Francois County Public Housing Agency | John J. Pershing VAMC | Box N | Park Hills | MO | 63601 | 25 | $84,855
St. Louis Housing Authority | St. Louis VAMC | 3520 Page Boulevard | Saint Louis | MO | 63106 | 25 | $153,675
The Housing Authority of the City of Biloxi | Gulf Coast HCS | PO Box 447 | Biloxi | MS | 39533 | 25 | $178,078
The Housing Authority of the City of Jackson | G.V. Sonny Montgomery VAMC | PO Box 11327 | Jackson | MS | 39283 | 50 | $239,288
Montana Department of Commerce | Montana HCS/Great Falls CBOC | PO Box 200545 | Helena | MT | 59620 | 25 | $119,416
Montana Department of Commerce | Montana HCS Fort Harrison | PO Box 200545 | Helena | MT | 59620 | 25 | $119,416
Housing Authority of the City of Charlotte | WG Hefner VAMC Salisbury/Charlotte CBOC | PO Box 36795 | Charlotte | NC | 28236 | 50 | $322,258
Housing Authority of the City of Asheville | Asheville VAMC | PO Box 1898 | Asheville | NC | 28802 | 25 | $138,295
Fayetteville Metropolitan Housing Authority | Fayetteville VAMC | PO Box 2349 | Fayetteville | NC | 28302 | 25 | $153,632
Housing Authority of the City of Greensboro | WG Hefner VAMC Salisbury/Winston-Salem CBOC | PO Box 21287 | Greensboro | NC | 27420 | 25 | $124,407
Housing Authority of the City of Winston-Salem | WG Hefner VAMC Salisbury/Winston-Salem CBOC | 500 West Fourth Street, Suite 300 | Winston-Salem | NC | 27101 | 25 | $104,270
The Housing Authority of the City of Durham | Durham VAMC | PO Box 1726 | Durham | NC | 27702 | 25 | $171,775
Housing Authority of the County of Wake | Durham VAMC | PO Box 399 | Zebulon | NC | 27597 | 25 | $146,617
Isothermal Planning & Development Commission | Asheville VAMC | PO Box 841 | Rutherfordton | NC | 28139 | 10 | $48,067
Burleigh County Housing Authority | Fargo VAMC/Bismarck CBOC | 410 S 2nd Street | Bismarck | ND | 58504 | 15 | $64,122
Lincoln Housing Authority | VA Nebraska-W. Iowa HCS/Lincoln CBOC | 5700 R St | Lincoln | NE | 68505 | 10 | $32,153
Douglas County Housing Authority | VA Nebraska-W. Iowa HCS/Omaha VAMC | 5404 N 107th Plaza | Omaha | NE | 68134 | 40 | $249,417
New Hampshire Housing Finance Agency | Manchester VAMC | PO Box 5087 | Manchester | NH | 03108 | 15 | $126,279
State of NJ Dept. of Comm. Affairs | Wilmington VAMC/Northfield VA Health Clinic | 101 South Broad Street | Trenton | NJ | 08625 | 10 | $88,362
State of NJ Dept. of Comm. Affairs | NJ HCS—Lyons Campus/Jersey City CBOC | 101 South Broad Street | Trenton | NJ | 08625 | 25 | $220,904
State of NJ Dept. of Comm. Affairs | NJ HCS—E. Orange Campus/Piscataway CBOC | 101 South Broad Street | Trenton | NJ | 08625 | 25 | $220,904
State of NJ Dept. of Comm. Affairs | NJ HCS—E. Orange Campus/Newark CBOC | 101 South Broad Street | Trenton | NJ | 08625 | 15 | $132,542
State of NJ Dept. of Comm. Affairs | NJ HCS—Lyons Campus/Paterson CBOC | 101 South Broad Street | Trenton | NJ | 08625 | 25 | $220,904
State of NJ Dept. of Comm. Affairs | VA New Jersey HCS—Lyons Campus | 101 South Broad Street | Trenton | NJ | 08625 | 25 | $220,904
State of NJ Dept. of Comm. Affairs | NJ HCS—E. Orange Campus/Tinton Falls CBOC | 101 South Broad Street | Trenton | NJ | 08625 | 25 | $220,904
State of NJ Dept. of Comm. Affairs | NJ HCS—E. Orange Campus/Hamilton CBOC | 101 South Broad Street | Trenton | NJ | 08625 | 50 | $441,808
Housing Authority of the City of Camden | Philadelphia VAMC | 2021 Watson Street | Camden | NJ | 08105 | 50 | $312,094
Bernalillo County Housing Department | Raymond G. Murphy VAMC | 1900 Bridge Boulevard SW | Albuquerque | NM | 87105 | 25 | $163,547
City of Reno Housing Authority | Sierra Nevada HCS | 1525 E 9th Street | Reno | NV | 89512 | 50 | $348,330
Southern Nevada Regional Housing Authority | Southern Nevada HCS | PO Box 1897 | Las Vegas | NV | 89125 | 100 | $667,525
Syracuse Housing Authority | Syracuse VAMC | 516 Burt St | Syracuse | NY | 13202 | 35 | $170,158
New York City Housing Authority | James J. Peters VAMC | 250 Broadway | New York | NY | 10007 | 200 | $2,286,996
New York City Housing Authority | New York Harbor HCS | 250 Broadway | New York | NY | 10007 | 100 | $1,143,498
New York City Housing Authority | New York Harbor HCS | 250 Broadway | New York | NY | 10007 | 100 | $1,143,498
Albany Housing Authority | Samuel S. Stratton VAMC | 200 South Pearl St | Albany | NY | 12202 | 25 | $118,600
Binghamton Housing Authority | Syracuse VAMC/Binghamton VA OPC | 35 Exchange St | Binghamton | NY | 13902 | 10 | $52,439
Town of Amherst Housing Authority | VA Western NY HCS | 1195 Main St | Buffalo | NY | 14209 | 15 | $72,338
NYS Housing Trust Fund Corporation | Northport VAMC/Islip CBOC | c/o Vincent Lacapra | New York | NY | 10004 | 50 | $474,874
NYS Housing Trust Fund Corporation | Northport VAMC | c/o Vincent Lacapra | New York | NY | 10004 | 25 | $237,437
NYS Housing Trust Fund Corporation | VA Hudson Valley HCS—Franklin Delano Roosevelt Campus | c/o Vincent Lacapra | New York | NY | 10004 | 25 | $237,437
Columbus Metropolitan Housing Authority | Chalmers P. Wylie VAMC | 880 East 11th Ave | Columbus | OH | 43211 | 50 | $270,938
Dayton Metropolitan Housing Authority | Dayton VAMC | 400 Wayne Ave | Dayton | OH | 45401 | 25 | $109,946
Lucas Metropolitan Housing Authority | Ann Arbor HCS/Toledo VA OPC | PO Box 477 | Toledo | OH | 43697 | 25 | $100,826
Lorain Metropolitan Housing Authority | Louis Stokes VAMC/Lorain CBOC | 1600 Kansas Avenue | Lorain | OH | 44052 | 25 | $152,755
Mansfield Metropolitan Housing Authority | Louis Stokes VAMC/Mansfield CBOC | PO Box 1029 | Mansfield | OH | 44901 | 25 | $113,740
Clermont Metropolitan Housing Authority | Cincinnati VAMC/Hamilton VA Health Care Associates | 65 S Market Street | Batavia | OH | 45103 | 15 | $79,677
Fairfield Metropolitan Housing Authority | Chillicothe VAMC/Lancaster CBOC | 315 N. Columbus Street | Lancaster | OH | 43130 | 15 | $74,916
Cuyahoga Metropolitan Housing Authority | Louis Stokes VAMC | 1441 W 25th Street | Cleveland | OH | 44113 | 25 | $131,417
Housing Authority of the City of Oklahoma City | Oklahoma City VAMC | 1700 NE 4th Street | Oklahoma City | OK | 73117 | 40 | $142,857
Housing Authority of the City of Muskogee | Jack C. Montgomery VAMC/Muskogee VAMC | 220 North 40th Street | Muskogee | OK | 74401 | 25 | $92,282
Oklahoma Housing Finance Agency | Jack C. Montgomery VAMC/Ernest Childers VA OPC | Oklahoma Housing Finance Agency | Oklahoma City | OK | 73126 | 25 | $146,172
Housing Authority of Clackamas County | Portland VAMC/East Portland CBOC/West Linn CBOC | PO Box 1510 | Oregon City | OR | 97045 | 25 | $178,708
Housing Authority of Portland | Portland VAMC | 135 SW Ash Street | Portland | OR | 97204 | 60 | $373,592
Housing Authority & Comm Svcs of Lane Co | Roseburg VAMC/Eugene CBOC | 177 Day Island Road | Eugene | OR | 97401 | 50 | $200,178
Housing Authority of Jackson County | S Oregon Rehab Center and Clinic | 2231 Table Rock Road | Medford | OR | 97501 | 40 | $178,437
Central Oregon Regional Housing Authority | Portland VAMC/Bend CBOC | 405 SW 6th Street | Redmond | OR | 97756 | 10 | $68,257
Allentown Housing Authority | Wilkes-Barre VAMC/Allentown OPC | 1339 W Allen Street | Allentown | PA | 18102 | 15 | $114,642
Allegheny County Housing Authority | Pittsburgh VAMC | 625 Stanwix Street | Pittsburgh | PA | 15222 | 50 | $217,376
Harrisburg Housing Authority | Lebanon VAMC/Camp Hill CBOC | 351 Chestnut St | Harrisburg | PA | 17101 | 25 | $136,160
Housing Authority of the County of Butler | Butler VAMC | 114 Woody Drive | Butler | PA | 16001 | 15 | $76,522
Housing Authority of the City of Erie | Erie VAMC | 606 Holland Street | Erie | PA | 16501 | 15 | $57,781
Housing Authority of the County of Chester | Coatesville VAMC | 30 W 30 Barnard St Street | West Chester | PA | 19382 | 50 | $332,100
Housing Authority of Indiana County | Pittsburgh VAMC | 104 Philadelphia Street | Indiana | PA | 15701 | 25 | $103,978
Bucks County Housing Authority | Philadelphia VAMC | PO Box 1329 | Doylestown | PA | 18901 | 10 | $72,065
Housing Authority of the County of Blair | James E. Van Zandt VAMC | PO Box 167 | Hollidaysburg | PA | 16648 | 15 | $61,873
Philadelphia Housing Authority | Philadelphia VAMC | 12 S 12 S 23rd Street | Philadelphia | PA | 19103 | 75 | $544,757
Puerto Rico Dept of Housing | VA Caribbean HCS | PO Box 21365 | San Juan | PR | 00928 | 15 | $81,477
Housing Authority Providence | Providence VAMC | 100 Broad Street | Providence | RI | 02903 | 25 | $171,494
Housing Authority of the City of Charleston | Ralph H Johnson VAMC | 550 Meeting Street | Charleston | SC | 29403 | 60 | $326,112
Housing Authority of the City of Columbia | Wm Jennings Bryan Dorn VAMC | 1917 Harden Street | Columbia | SC | 29204 | 100 | $465,678
Housing Authority of Greenville | Wm Jennings Bryan Dorn VAMC/Greenville CBOC | PO Box 10047 | Greenville | SC | 29603 | 25 | $123,265
Housing Authority of Myrtle Beach | Ralph H Johnson VAMC/Myrtle Beach CBOC | PO Box 2468 | Myrtle Beach | SC | 29578 | 15 | $75,165
Sioux Falls Housing and Redevelopment Commission | Royal C. Johnson VAMC | 630 S Minnesota Avenue | Sioux Falls | SD | 57104 | 25 | $152,975
Memphis Housing Authority | Memphis VAMC | PO Box 3664 | Memphis | TN | 38103 | 50 | $252,887
Johnson City Housing Authority | James H. Quillen VAMC | PO Box 59 | Johnson City | TN | 37605 | 25 | $88,253
Knoxville's Community Development Corp | James H. Quillen VAMC/Knoxville CBOC | PO Box 3550 | Knoxville | TN | 37927 | 25 | $110,467
Chattanooga Housing Authority | VA TN Valley HCS/Chattanooga CBOC | PO Box 1486 | Chattanooga | TN | 37401 | 15 | $56,706
Metropolitan Development & Housing Agency | VA TN Valley HCS/Nashville Campus | 701 6th St | Nashville | TN | 37202 | 75 | $433,474
Jackson Housing Authority | Memphis VAMC/Jackson CBOC | PO Box 3188 | Jackson | TN | 38303 | 10 | $44,570
Murfreesboro Housing Authority | Alvin C. York VAMC | 415 North Maple Street | Murfreesboro | TN | 37130 | 10 | $52,621
Dickson Housing Authority | VA TN Valley HCS/Clarksville CBOC | 333 Martin Luther King Jr Boulevard | Dickson | TN | 37055 | 15 | $79,538
Austin Housing Authority | VA Central Texas HCS/Austin OPC | PO Box 6159 | Austin | TX | 78762 | 100 | $703,285
Housing Authority of the City of El Paso | VA El Paso HCS | 5300 E. Paisano Dr | El Paso | TX | 79905 | 25 | $99,498
Housing Authority of Fort Worth | VA North Texas HCS/Fort Worth OPC | 1201 13th St | Fort Worth | TX | 76101 | 50 | $298,264
Houston Housing Authority | Michael E. DeBakey VAMC | 2640 Fountain View | Houston | TX | 77057 | 150 | $899,952
San Antonio Housing Authority | Audie L. Murphey VAMC | PO Drawer 1300 | San Antonio | TX | 78295 | 20 | $99,145
Corpus Christi Housing Authority | VA Texas Valley Coastal Bend HCS/Corpus Christi OPC | 3701 Ayers Street | Corpus Christi | TX | 78415 | 25 | $157,548
Housing Authority of the City of Dallas | Dallas VAMC Campus | 3939 N. Hampton Road | Dallas | TX | 75212 | 100 | $629,950
Housing Authority of Lubbock | Thomas E. Creek VAMC | PO Box 2568 | Lubbock | TX | 79408 | 25 | $143,669
Housing Authority of the City of Abilene | West Texas VAMC | 534 Cypress Street, Suite #200 | Abilene | TX | 79601 | 50 | $161,208
Harris County Housing Authority | Michael E. DeBakey VAMC | 8933 Interchange | Houston | TX | 77054 | 50 | $301,252
Bexar County Housing Authority | Audie L. Murphey VAMC | 1017 N. Main Avenue | San Antonio | TX | 78212 | 20 | $126,592
City of Amarillo Housing Authority | Thomas E. Creek VAMC | PO Box 1971 | Amarillo | TX | 79101 | 25 | $146,066
Central Texas Council of Governments | Central Texas Veterans Health Care System | PO Box 729 | Belton | TX | 76513 | 50 | $253,898
Housing Authority of the County of Salt Lake | George E. Wahlen VAMC | 3595 S Main Street | Salt Lake City | UT | 84115 | 50 | $304,701
Housing Authority of Salt Lake City | George E. Wahlen VAMC | 1776 S West Temple | Salt Lake City | UT | 84115 | 25 | $148,958
St. George Housing Authority | George E. Wahlen VAMC/St. George CBOC | 975 N 1725 W | St George | UT | 84770 | 10 | $46,815
Norfolk Redevelopment & Housing Authority | Hampton VAMC/VA Beach CBOC | PO Box 968 | Norfolk | VA | 23501 | 25 | $187,566
Roanoke Redevelopment & Housing Authority | Salem VAMC | PO Box 6359 | Roanoke | VA | 24017 | 10 | $32,701
Hampton Redevelopment & Housing Authority | Hampton VAMC | PO Box 280 | Hampton | VA | 23669 | 100 | $558,149
Fairfax County Redevelopment & Hsg Authority | Washington D.C. VAMC/Alexandria CBOC | 3700 Pender Drive | Fairfax | VA | 22030 | 10 | $107,679
Prince William County Office of HCD | Washington D.C. VAMC/Alexandria CBOC | 15941 Donald Curtis Drive, Suite 112 | Woodbridge | VA | 22191 | 10 | $128,138
Virginia Housing Development Authority | Hunter Holmes McGuire VAMC | PO Box 4545 | Richmond | VA | 23220 | 25 | $187,365
Vermont State Housing Authority | White River Junction | 1 Prospect Street | Montpelier | VT | 05602 | 25 | $153,036
Seattle Housing Authority | Seattle VAMC | 120 Sixth Avenue North | Seattle | WA | 98109 | 58 | $409,544
HA of King County | Seattle VAMC | 600 Andover Park West | Seattle | WA | 98188 | 57 | $476,832
Peninsula Housing Authority | VA Puget Sound HCS/Port Angeles CBOC | 2603 S Francis Street | Port Angeles | WA | 98362 | 25 | $139,385
HA City of Tacoma | American Lake VAMC | 902 S L Street | Tacoma | WA | 98405 | 25 | $150,356
Housing Authority of Snohomish County | Seattle VAMC | 12625 4th Avenue W | Everett | WA | 98204 | 75 | $585,873
HA City of Yakima | Jonathan M. Wainwright Memorial VAMC/Yakima CBOC | 810 N 6th Avenue | Yakima | WA | 98902 | 10 | $40,298
HA of Pierce County | American Lake VAMC | PO Box 45410 | Tacoma | WA | 98445 | 25 | $174,451
HA City of Spokane | Spokane VAMC | 55 W Mission Avenue | Spokane | WA | 99201 | 25 | $102,647
Housing Authority of Skagit County | VA Puget Sound HCS/Mt. Vernon CBOC | 1650 Port Drive | Burlington | WA | 98233 | 25 | $144,969
Housing Authority of the City of Milwaukee | Clement J. Zablocki VAMC | PO Box 324 | Milwaukee | WI | 53201 | 25 | $111,898
Madison Community Development Authority | Wm. S. Middleton VAMC | PO Box 1785 | Madison | WI | 53701 | 25 | $152,457
CDA of the City of West Allis | Clement J. Zablocki VAMC | 7525 West Greenfield Avenue | West Allis | WI | 53214 | 25 | $149,095
CDA of the City of West Allis | Clement J. Zablcoki VAMC Milwaukee | 7525 West Greenfield Avenue | West Allis | WI | 53214 | 25 | $149,095
Charleston/Kanawha Housing Authority | Huntington VAMC | PO Box 86 | Charleston | WV | 25321 | 10 | $49,166
Housing Authority of the City of Huntington | Huntington VAMC | PO Box 2183 | Huntington | WV | 25722 | 15 | $62,509
Housing Authority of Raleigh County | Beckley VAMC | PO Box 2618 | Beckley | WV | 25802 | 15 | $53,812
Housing Authority of the City of Cheyenne | Cheyenne VAMC | 3304 Sheridan Street | Cheyenne | WY | 82009 | 10 | $45,205
FY2012 HUD VASH Total |  |  |  |  |  | Total Vouchers Awarded 10,450 | 1 Year Budget Authority For Vouchers Awarded $75,145,092

Appendix B

Fiscal Year 2013 Funding Awards for the HUD-Veterans Affairs Supportive Housing (VASH) Program
Recipient | Partnering VA medical facility | Address | City | State | Zip code | Number of vouchers awarded | 1 year budget authority for vouchers awarded
Alaska Housing Finance Corporation | Alaska VA Health Care System, Anchorage Campus | PO Box 101020 | Anchorage | AK | 99510 | 15 | $105,718.
The Housing Authority of the City of Huntsville | Birmingham VA Medical Center VA Medical Center (VAMC), Huntsville VA Clinic | PO Box 486 | Huntsville | AL | 35804 | 25 | $113,438.
Jefferson County Housing Authority | Birmingham VA Medical Center (VAMC) | 3700 Industrial Parkway | Birmingham | AL | 35217 | 50 | $363,118.
Housing Authority of the City of Montgomery | Central Alabama Veterans Health Care System, Montgomery Campus | 525 S Lawrence St | Montgomery | AL | 36104 | 30 | $159,500.
Tuscaloosa Housing Authority | Tuscaloosa VA Medical Center | PO Box 2281 | Tuscaloosa | AL | 35403 | 20 | $87,868.
Fayetteville Housing Authority | Fayetteville, AR VA Medical Center (VAMC) | #1 North School Avenue | Fayetteville | AR | 72701 | 30 | $112,125.
Metropolitan Housing Alliance (Little Rock) | Little Rock VA Medical Center | 100 South Arch Street | Little Rock | AR | 72201 | 75 | $424,606.
City of Phoenix Housing Department | Phoenix VA Health Care System (HCS), Thunderbird Community-Based Outreach Clinic (CBOC) | 251 W Washington Street | Phoenix | AZ | 85003 | 25 | $156,661.
City of Phoenix Housing Department | Phoenix VA Health Care System (HCS) | 251 W Washington Street | Phoenix | AZ | 85003 | 75 | $469,982.
Housing and Community Development Tucson | Southern Arizona VA Health Care System (HCS), Tucson VA Medical Center (VAMC) | PO Box 27210 | Tucson | AZ | 85726 | 75 | $434,862.
City of Mesa Housing Authority | Phoenix VA Health Care System (HCS), Mesa Community-Based Outreach Clinic (CBOC) | PO Box 1466 | Mesa | AZ | 85211 | 50 | $303,785.
Housing Authority of Cochise County | Southern Arizona VA Health Care System (HCS), Sierra Vista Community-Based Outreach Clinic (CBOC) | PO Box 167 | Bisbee | AZ | 85603 | 15 | $97,265.
Arizona Department of Housing | Northern Arizona VA Health Care System (HCS), Prescott VA Medical Center (VAMC) | 1110 W. Washington | Phoenix | AZ | 85007 | 10 | $57,202.
Mohave County | Northern AZ VA Health Care System, Prescott | PO Box 7000 | Kingman | AZ | 86402 | 25 | $148,446.
Housing Authority of the County of Los Angeles | VA Greater Los Angeles Health Care System (HCS), GLA Campus | 2 S Coral Circle | Monterey Park | CA | 91755 | 175 | $1,591,401.
Oakland Housing Authority | VA Northern California Health Care System (HCS), Oakland Behavioral Health Clinic (BHC) | 1619 Harrison Street | Oakland | CA | 94612 | 60 | $581,263.
Housing Authority of the City of Los Angeles | VA Greater Los Angeles Health Care System (HCS), Greater LA Campus | 2600 Wilshire Blvd | Los Angeles | CA | 90057 | 525 | $4,923,261.
Housing Authority City of Fresno | VA Central CA Health Care System (HCS), Fresno VA Medical Center (VAMC) | PO Box 11985 | Fresno | CA | 93776 | 70 | $378,840.
County of Sacramento Housing Authority | VA Northern California Health Care System (HCS), Sacramento VA Medical Center (VAMC) | 801 12th Street | Sacramento | CA | 95814 | 50 | $368,568.
Housing Authority of the County of San Mateo | San Francisco VA Medical Center (VAMC) | 264 Harbor Boulevard | Belmont | CA | 94002 | 35 | $414,372.
Housing Authority of the County of San Bernardino | VA Loma Linda Health Care System (HCS), Loma Linda Campus | 715 E. Brier Dr | San Bernardino | CA | 92408 | 55 | $371,804.
County of San Joaquin Housing Authority | VA Palo Alto Health Care System (HCS), Stockton Community-Based Outreach Clinic (CBOC) | PO Box 447 | Stockton | CA | 95201 | 25 | $125,259.
County of Stanislaus Housing Authority | VA Palo Alto Health Care System (HCS), Modesto Community-Based Outreach Clinic (CBOC) | PO Box 581918 | Modesto | CA | 95358 | 15 | $99,826.
Housing Authority of the County of Riverside | VA Loma Linda Health Care System (HCS), Loma Linda Campus | 5555 Arlington Avenue | Riverside | CA | 92504 | 75 | $575,847.
County of Monterey Housing Authority | VA Palo Alto Health Care System (HCS), Seaside Community-Based Outreach Clinic (CBOC) | 123 Rico Street | Salinas | CA | 93907 | 30 | $247,219.
County of Butte Housing Authority | VA Northern California Health Care System (HCS), Chico Community-Based Outreach Clinic (CBOC) | 2039 Forest Ave Suite #10 | Chico | CA | 95928 | 15 | $80,975.
Housing Authority of the County Santa Clara | VA Palo Alto Health Care System (HCS), Menlo Park Campus | 505 W Julian Street | San Jose | CA | 95110 | 100 | $1,192,956.
San Diego Housing Commission | VA San Diego Health Care System (HCS), San Diego Campus | 1122 Broadway Suite 300 | San Diego | CA | 92101 | 185 | $1,569,607.
Housing Authority of the City of San Luis Obispo | VA Greater Los Angeles Health Care System (HCS), San Luis Obispo Community-Based Outreach Clinic (CBOC) | PO Box 1289 | San Luis Obispo | CA | 93406 | 15 | $106,839.
Alameda County Housing Authority | VA Palo Alto Health Care System (HCS)/Fremont CBOC | 22941 Atherton Street | Hayward | CA | 94541 | 10 | $108,425.
City of Long Beach Housing Authority | VA Long Beach Health Care System (HCS), Long Beach Campus | 521 East 4th Street | Long Beach | CA | 90802 | 110 | $938,150.
Santa Cruz County Housing Authority | VA Palo Alto Health Care System (HCS), Menlo Park Campus | 2931 Mission Street | Santa Cruz | CA | 95060 | 25 | $287,208.
City of Santa Rosa Housing Authority | San Francisco VA Medical Center (VAMC), Santa Rosa Community-Based Outreach Clinic (CBOC) | PO Box 1806 | Santa Rosa | CA | 95402 | 50 | $467,519.
Orange County Housing Authority | VA Long Beach Health Care System (HCS), Long Beach Campus | 1770 North Broadway | Santa Ana | CA | 92706 | 100 | $1,117,272.
County of Shasta Housing Authority | VA Northern California Health Care System (HCS), Redding Community-Based Outreach Clinic (CBOC) | 1450 Court Street, Suite 108 | Redding | CA | 96001 | 10 | $47,528.
Housing Authority of the County of San Diego | VA San Diego Health Care System (HCS), San Diego Campus | 3989 Ruffin Road | San Diego | CA | 92123 | 40 | $332,731.
Housing Authority of San Francisco | San Francisco VA Medical Center | 1815 Egbert Avenue | San Francisco | CA | 94124 | 70 | $875,826.
Housing Authority of the County of Santa Barbara | VA Greater Los Angeles Health Care System, Santa Barbara Community-Based Outreach Clinic | PO Box 397 | Lompoc | CA | 93438 | 15 | $153,299.
Housing Authority of the City and County of Denver | VA Eastern Colorado Health Care System (HCS), Denver VA Medical Center (VAMC) | Box 40305, Mile High Station | Denver | CO | 80204 | 40 | $251,018.
Fort Collins Housing Authority | Cheyenne VA Medical Center (VAMC) | 1715 W. Mountain Ave | Ft. Collins | CO | 80758 | 30 | $188,698.
Grand Junction Housing Authority | Grand Junction VA Medical Center (VAMC) | 1011 North Tenth Street | Grand Junction | CO | 81501 | 25 | $108,048.
Aurora Housing Authority | VA Eastern Colorado Health Care System (HCS), Denver VA Medical Center (VAMC) | 2280 S Xanadu Way | Aurora | CO | 80014 | 10 | $61,665.
Boulder County Housing Authority | VA Eastern Colorado Health Care System (HCS), Denver VA Medical Center (VAMC) | PO Box 471 | Boulder | CO | 80306 | 10 | $65,912.
Colorado Division of Housing | VA Eastern Colorado Health Care System (HCS), Denver VA Medical Center (VAMC) | 1313 Sherman Street | Denver | CO | 80203 | 25 | $157,602.
Colorado Division of Housing | VA Eastern Colorado Health Care System (HCS), Colorado Springs Community-Based Outreach Clinic (CBOC) | 1313 Sherman Street | Denver | CO | 80203 | 25 | $157,602.
Colorado Division of Housing | New Mexico VA Health Care System (HCS), Durango | 1313 Sherman Street | Denver | CO | 80203 | 15 | $94,561.
Housing Authority of the City of Bridgeport | VA Connecticut Health Care System (HCS), West Haven Campus | 150 Highland Avenue | Bridgeport | CT | 06604 | 15 | $159,059.
West Haven Housing Authority | VA Connecticut Health Care System (HCS), West Haven Campus | 15 Glade Street | West Haven | CT | 06516 | 15 | $117,274.
Connecticut Department of Social Services | VA Connecticut Health Care System (HCS), Newington Campus | 25 Sigourney Street | Hartford | CT | 06106 | 10 | $85,482.
Connecticut Department of Social Services | VA Connecticut Health Care System (HCS), West Haven Campus | 25 Sigourney Street | Hartford | CT | 06106 | 15 | $128,223.
D.C. Housing Authority | Washington, DC VA Medical Center (VAMC) | 1133 N Capitol Street NE | Washington | DC | 20002 | 65 | $733,543.
Wilmington Housing Authority | Wilmington VA Medical Center (VAMC) | 400 Walnut Street | Wilmington | DE | 19801 | 20 | $133,339.
Jacksonville Housing Authority | Northern FL/Southern GA VA Health Care System (HCS), Jacksonville Campus | 1300 Broad Street | Jacksonville | FL | 32202 | 50 | $250,787.
Housing Authority of the City of St. Petersburg | Bay Pines VA Health Care System (HCS), St. Petersburg Community-Based Outreach Clinic (CBOC) | 2001 Gandy Boulevard North | St. Petersburg | FL | 33702 | 35 | $207,005.
Tampa Housing Authority | Tampa VA Medical Center (VAMC) | 1529 W Main Street | Tampa | FL | 33607 | 205 | $1,286,531.
Orlando Housing Authority | Orlando VA Medical Center (VAMC) | 390 North Bumby Avenue | Orlando | FL | 32803 | 110 | $741,708.
Miami Dade Public Housing and Community Development | Miami VA Health Care System (HCS) | 701 NW 1st Court | Miami | FL | 33136 | 45 | $327,024.
Housing Authority of City of Daytona Beach | Orlando VA Medical Center (VAMC), Daytona Beach Community-Based Outreach Clinic (CBOC) | 211 N. Ridgewood Ave | Daytona Beach | FL | 32114 | 20 | $104,984.
Sarasota Housing Authority | Bay Pines VA Health Care System (HCS), Sarasota Community-Based Outreach Clinic (CBOC) | 40 South Pineapple Avenue | Sarasota | FL | 34236 | 25 | $160,403.
West Palm Beach Housing Authority | West Palm Beach VA Medical Center (VAMC) | 1715 Division Avenue | West Palm Beach | FL | 33407 | 35 | $260,719.
Housing Authority of the City of Titusville | Orlando VA Medical Center (VAMC), Viero Community-Based Outreach Clinic (CBOC) | 524 S Hopkins Avenue | Titusville | FL | 32796 | 30 | $149,258.
Ocala Housing Authority | Northern FL/Southern GA VA Health Care System (HCS), Ocala Community-Based Outreach Clinic (CBOC) | Post Office Box 2468 | Ocala | FL | 34478 | 15 | $60,908.
Seminole County Housing Authority | Orlando VA Medical Center (VAMC) | 662 Academy Place | Oviedo | FL | 32765 | 15 | $99,143.
Housing Authority of the City of Stuart | West Palm Beach VA Medical Center (VAMC), Fort Pierce Community-Based Outreach Clinic (CBOC) | 611 Church Street | Stuart | FL | 34994 | 15 | $113,421.
Housing Authority of the City of Fort Myers | Bay Pines VA Health Care System (HCS), Port Charlotte Community-Based Outreach Clinic (CBOC) | 4224 Renaissance Preserve Way | Fort Myers | FL | 33916 | 20 | $117,076.
Housing Authority of the City of Fort Myers | Bay Pines VA Health Care System (HCS), Lee County VA HC Center | 4224 Renaissance Preserve Way | Fort Myers | FL | 33916 | 35 | $204,884.
Pinellas County Housing Authority | Bay Pines VA Health Care System (HCS), St. Petersburg Community-Based Outreach Clinic (CBOC) | 11479 Ulmerton Road | Largo | FL | 33778 | 35 | $251,168.
Alachua County Housing Authority | Northern FL/Southern GA VA Health Care System (HCS), Gainesville Campus | 703 NE First Street | Gainesville | FL | 32601 | 65 | $378,397.
Tallahassee Housing Authority | Northern FL/Southern GA VA Health Care System (HCS), Tallahassee Campus | 2940 Grady Road | Tallahassee | FL | 32312 | 60 | $391,246.
Broward County Housing Authority | Miami VA Health Care System (HCS), Broward County Community-Based Outreach Clinic (CBOC) | 4780 N State Road 7 | Lauderdale Lakes | FL | 33319 | 100 | $895,956.
Fort Walton Beach | Gulf Coast Health Care System, Pensacola Community-Based Outreach Clinic | 27 Robinwood Drive SW | Fort Walton Beach | FL | 32548 | 45 | $241,333.
Housing Authority of the City of Augusta | Augusta VA Medical Center (VAMC) | PO Box 3246 | Augusta | GA | 30914 | 15 | $72,840.
Housing Authority of Savannah | Charleston VA Medical Center (VAMC), Savannah VA Clinic | PO Box 1179 | Savannah | GA | 31402 | 15 | $95,225.
Housing Authority of the City of Atlanta Georgia | Atlanta VA Medical Center (VAMC) | 230 John Wesley Dobbs N.E | Atlanta | GA | 30303 | 110 | $1,046,866.
Housing Authority of the City of Marietta | Atlanta VA Medical Center (VAMC), Austell VA Clinic | PO Box K | Marietta | GA | 30061 | 15 | $91,202.
Housing Authority of the City of Decatur | Atlanta VA Medical Center (VAMC) | 750 Commerce Drive | Decatur | GA | 30030 | 75 | $407,178.
Housing Authority of the County of Dekalb, GA | Atlanta VA Medical Center (VAMC) | 750 Commerce Drive, Suite 201 | Decatur | GA | 30030 | 50 | $281,622.
Savannah | Charleston VA Medical Center, Savannah Community-Based Outreach Clinic | PO Box 1179 | Savannah | GA | 31402 | 10 | $63,483.
Atlanta Housing Authority | Atlanta VA Medical Center | 230 John Wesley Dobbs N.E | Atlanta | GA | 30303 | 75 | $713,772.
Georgia Residential Finance | Charleston VAMC/Hinesville CBOC | 60 Executive Parkway South, NE | Atlanta | GA | 30329 | 25 | $126,703.
Hawaii Public Housing Authority | VA Pacific Islands Health Care System (HCS), Hawaii VA Medical Center (VAMC) | PO Box 17907 | Honolulu | HI | 96817 | 65 | $569,431.
Des Moines Municipal Housing Agency | VA Central Iowa Health Care System (HCS), Des Moines VA Medical Center (VAMC) | Park Fair Mall | Des Moines | IA | 50313 | 15 | $64,798.
Davenport Housing Commission | Iowa City VA Medical Center (VAMC) | 501 W 3rd Street | Davenport | IA | 52801 | 15 | $70,666.
City of Iowa City Housing Authority | Iowa City VA Medical Center | 410 E Washington Street | Iowa City | IA | 52240 | 15 | $65,147.
Housing Authority of the City of Pocatello | VA Salt Lake City Health Care System (HCS), Pocatello Community-Based Outreach Clinic (CBOC) | PO Box 4161 | Pocatello | ID | 83205 | 15 | $76,452.
Boise City Housing Authority | Boise VA Medical Center (VAMC) | 1276 River Street | Boise | ID | 83702 | 25 | $118,371.
Chicago Housing Authority | Jesse Brown VA Medical Center (VAMC) | 60 E. Van Buren St | Chicago | IL | 60605 | 150 | $1,210,176.
Housing Authority of Champaign County | VA Illiana Health Care System (HCS), Illiana VA Medical Center (VAMC) | 205 W Park Avenue | Champaign | IL | 61820 | 15 | $109,876.
Housing Authority Cook County | Hines VA Medical Center (VAMC) | 175 W. Jackson | Chicago | IL | 60604 | 70 | $566,336.
Housing Authority of the City of Waukegan | Captain James A Lovell Federal Health Care Center (FHCC) | 215 S Utica Street | Waukegan | IL | 60085 | 15 | $110,515.
McHenry County Housing Authority | Captain James A Lovell Federal Health Care Center (FHCC), McHenry VA Clinic | PO Box 1109 | Woodstock | IL | 60098 | 15 | $100,723.
Chicago Housing Authority | Jesse Brown VA Medical Center | 60 E. Van Buren St | Chicago | IL | 60605 | 15 | $121,018.
Bloomington Housing Authority | VA Illiana Health Care System, Peoria Outpatient Clinic | 104 E Wood Street | Bloomington | IL | 61701 | 15 | $84,525.
Indianapolis Housing Agency | Indianapolis VA Medical Center (VAMC) | 1919 North Meridian Street | Indianapolis | IN | 46202 | 50 | $245,334.
Housing Authority of the City of Marion, In | Marion VA Medical Center (VAMC) | 601 S Adams Street | Marion | IN | 46953 | 20 | $64,846.
Indiana Housing and Community Development Au | Indianapolis VA Medical Center (VAMC) | 30 South Meridian | Indianapolis | IN | 46204 | 15 | $80,870.
Indiana Housing and Community Development Authority | Northern Indiana Health Care System (HCS), South Bend Community-Based Outreach Clinic (CBOC) | 30 South Meridian | Indianapolis | IN | 46204 | 15 | $80,870.
Indiana Housing and Community Development Authority | Northern Indiana Health Care System (HCS), Ft. Wayne and Marion Campuses | 30 South Meridian | Indianapolis | IN | 46204 | 25 | $134,784.
Lawrence/Douglas County Housing Authority | Eastern KS Health Care System (HCS) Topeka Division | 1600 Haskell Ave | Lawrence | KS | 66044 | 20 | $137,758.
Salina Housing Authority | Robert J. Dole VA Medical Center | PO Box 1202 | Salina | KS | 67402 | 15 | $46,114.
Louisville Housing Authority | Louisville VA Medical Center (VAMC) | 420 S 8th Street | Louisville | KY | 40203 | 35 | $170,490.
Louisville Housing Authority | Louisville VA Medical Center (VAMC), New Albany Community-Based Outreach Clinic (CBOC) | 420 S 8th Street | Louisville | KY | 40203 | 10 | $48,711.
Housing Authority of Lexington | Lexington VA Medical Center (VAMC) | 300 West New Circle Road | Lexington | KY | 40505 | 25 | $114,137.
Kentucky Housing Corporation | Louisville VA Medical Center | 1231 Louisville Road | Frankfort | KY | 40601 | 5 | $30,233.
Housing Authority of New Orleans | New Orleans VA Medical Center (VAMC) | 4100 Touro Street | New Orleans | LA | 70122 | 90 | $625,358.
Housing Authority of the City of Kenner | New Orleans VA Medical Center (VAMC) | 1013 31st Street | Kenner | LA | 70065 | 15 | $87,789.
Housing Authority of Rapides Parish | Alexandria VA Medical Center (VAMC) | 119 Boyce Garden Drive | Boyce | LA | 71409 | 30 | $111,367.
Bossier Parish Section 8 | Shreveport VA Medical Center (VAMC) | 3022 Old Minden Road | Bossier City | LA | 71112 | 40 | $172,523.
New Bedford Housing Authority | Providence VA Medical Center (VAMC) | 134 South Second Street | New Bedford | MA | 02741 | 15 | $94,900.
Lynn Housing Authority | Bedford VA Medical Center (VAMC), Lynn Community-Based Outreach Clinic (CBOC) | 10 Church Street | Lynn | MA | 01902 | 15 | $146,564.
Boston Housing Authority | VA Boston Health Care System, Causeway Street Outpatient Clinic | 52 Chauncy Street | Boston | MA | 02111 | 50 | $517,924.
Cambridge Housing Authority | VA Boston Health Care System, Causeway Street Outpatient Clinic | 675 Massachusetts Avenue | Cambridge | MA | 02139 | 15 | $169,647.
MA Department of Housing & Community Development | Bedford VA Medical Center, Lowell Community-Based Outreach Clinic | 100 Cambridge Street, Suite 300 | Boston | MA | 02114 | 15 | $135,360.
MA Department of Housing & Community Development | Bedford VA Medical Center, Haverhill Community-Based Outreach Clinic | 100 Cambridge Street, Suite 300 | Boston | MA | 02114 | 15 | $135,360.
MA Department of Housing & Community Development | Bedford VA Medical Center | 100 Cambridge Street, Suite 300 | Boston | MA | 02114 | 15 | $135,360.
MA Department of Housing & Community Development | VA Central Western Massachusetts Health Care System, Pittsfield Community-Based Outreach Clinic | 100 Cambridge Street, Suite 300 | Boston | MA | 02114 | 35 | $315,840.
Housing Authority of Baltimore City | VA Maryland Health Care System (HCS), Baltimore Campus | 417 E Fayette Street | Baltimore | MD | 21202 | 80 | $744,586.
Housing Opportunity Commission of Montgomery County | Washington, DC VA Medical Center (VAMC) | 10400 Detrick Avenue | Kensington | MD | 20895 | 15 | $196,835.
Housing Authority of Prince Georges County | Washington, DC VA Medical Center (VAMC) | 9400 Peppercorn Place | Largo | MD | 20774 | 25 | $301,182.
Portland Housing Authority | Maine VA Health Care System (HCS), Portland Community-Based Outreach Clinic (CBOC) | 14 Baxter Boulevard | Portland | ME | 04101 | 20 | $140,062.
Flint Housing Commission | VA Ann Arbor Health Care System (HCS), Flint VA Outpatient Clinic (OPC) | 3820 Richfield Road | Flint | MI | 48506 | 15 | $57,725.
Flint Housing Commission | Detroit VA Medical Center (VAMC), Yale VA Outpatient Clinic (OPC) | 3820 Richfield Road | Flint | MI | 48506 | 15 | $57,725.
Battle Creek Housing Commission | Battle Creek VA Medical Center (VAMC) | 250 Champion Street | Battle Creek | MI | 49017 | 15 | $47,493.
Lansing Housing Commission | Battle Creek VA Medical Center (VAMC), Lansing VA Outpatient Clinic (OPC) | 310 Seymour Avenue | Lansing | MI | 48933 | 25 | $129,117.
Ann Arbor Housing Commission | VA Ann Arbor Health Care System (HCS) | 727 Miller Avenue | Ann Arbor | MI | 48103 | 20 | $108,197.
Muskegon Housing Commission | Battle Creek VA Medical Center (VAMC), Muskegon Outpatient Clinic (OPC) | 1080 Terrace | Muskegon | MI | 49442 | 10 | $36,136.
Kent County Housing Commission | Battle Creek VA Medical Center (VAMC), Grand Rapids VA Outpatient Clinic (OPC) | 82 Ionia Avenue, NW | Grand Rapids | MI | 49503 | 25 | $137,241.
Michigan State Housing Development Authority | Detroit VA Medical Center (VAMC) | 735 E. Michigan Avenue | Lansing | MI | 48912 | 65 | $355,649.
Michigan State Housing Development Authority | Detroit VA Medical Center (VAMC), Pontiac VA Outpatient Clinic (OPC) | 735 E. Michigan Avenue | Lansing | MI | 48912 | 10 | $54,715.
Michigan State Housing Development Authority | Saginaw VA Medical Center (VAMC), Bad Axe VA Community-Based Outreach Clinic (CBOC) | 735 E. Michigan Avenue | Lansing | MI | 48912 | 15 | $82,073.
Michigan State Housing Development Authority | Saginaw VA Medical Center (VAMC) | 735 E. Michigan Avenue | Lansing | MI | 48912 | 15 | $82,073.
Public Housing Agency of the City of St Paul | Minneapolis VA Health Care System (HCS) | 555 N. Wabasha Street | Saint Paul | MN | 55102 | 15 | $81,920.
Dakota County Community Development Authority | Minneapolis VA Health Care System (HCS) | 1228 Town Centre Drive | Eagan | MN | 55123 | 25 | $174,182.
Metropolitan Council | Minneapolis VA Medical Center | 390 North Robert Street | St. Paul | MN | 55101 | 15 | $96,800.
St. Louis Housing Authority | St. Louis VA Medical Center (VAMC) | 3520 Page Boulevard | Saint Louis | MO | 63106 | 30 | $175,387.
Housing Authority of Kansas City, Missouri | Kansas City VA Medical Center (VAMC) | 920 Main Street, Suite 701 | Kansas City | MO | 64106 | 55 | $308,326.
St. Joseph Housing Authority | Eastern KS Health Care System (HCS) Leavenworth Division | PO Box 1153 | Saint Joseph | MO | 64502 | 35 | $151,608.
Housing Authority of St. Louis County | St. Louis VA Medical Center (VAMC) | 8865 Natural Bridge Road | Saint Louis | MO | 63121 | 30 | $201,374.
Housing Authority of the City of Columbia, MO | Columbia, MO VA Medical Center (VAMC) | 201 Switzler Street | Columbia | MO | 65203 | 15 | $57,550.
St. Francois County Public Housing Agency | Poplar Bluff VA Medical Center (VAMC) | Box N | Park Hills | MO | 63601 | 10 | $13,553.
The Housing Authority of the City of Biloxi | Biloxi VA Medical Center (VAMC) | PO Box 447 | Biloxi | MS | 39533 | 55 | $356,403.
Mississippi Regional Housing Authority No. VI | Jackson VA Medical Center (VAMC) | PO Drawer 8746 | Jackson | MS | 39284 | 10 | $62,957.
The Housing Authority of the City of Jackson | Jackson VA Medical Center (VAMC) | PO Box 11327 | Jackson | MS | 39283 | 30 | $164,447.
Mississippi Regional Housing Authority No. VIII | Jackson VA Medical Center | PO Box 2347 | Gulfport | MS | 39505 | 15 | $67,810.
Housing Authority of Billings | VA Montana Health Care System (HCS), Billings Community-Based Outreach Clinic (CBOC) | 2415 1st Avenue N | Billings | MT | 59101 | 15 | $67,187.
Montana Department of Commerce | VA Montana Health Care System (HCS), Fort Harrison VA Medical Center (VAMC) | PO Box 200545 | Helena | MT | 59620 | 55 | $257,994.
Housing Authority of the City of Charlotte | Salisbury VA Medical Center (VAMC), Charlotte Community-Based Outreach Clinic (CBOC) | PO Box 36795 | Charlotte | NC | 28236 | 40 | $250,024.
Housing Authority of the City of Asheville | Asheville VA Medical Center (VAMC) | PO Box 1898 | Asheville | NC | 28802 | 50 | $284,433.
Fayetteville Metropolitan Housing Authority | Fayetteville, NC VA Medical Center (VAMC) | PO Box 2349 | Fayetteville | NC | 28302 | 45 | $268,196.
Housing Authority of the City of Winston-Salem | Salisbury VA Medical Center (VAMC), Winston-Salem Community-Based Outreach Clinic (CBOC) | 500 West Fourth Street, Suite 300 | Winston-Salem | NC | 27101 | 20 | $80,624.
Housing Authority of the County of Wake | Durham VA Medical Center (VAMC) | PO Box 399 | Zebulon | NC | 27597 | 35 | $215,058.
Housing Authority of the City of Wilmington | Fayetteville, NC VA Medical Center, Wilmington Community-Based Outreach Clinic | PO Box 899 | Wilmington | NC | 28402 | 15 | $94,652.
The Housing Authority of the City of Durham | Durham VA Medical Center | PO Box 1726 | Durham | NC | 27702 | 10 | $61,073.
Rowan County Housing Authority | Salisbury VA Medical Center | 310 Long Meadow Drive | Salisbury | NC | 28147 | 20 | $98,597.
Fargo Housing and Redevelopment Authority | Fargo VA Health Care System, Fargo VA Medical Center | 325 Broadway | Fargo | ND | 58107 | 15 | $51,217.
Minot Housing Authority | Fargo VA Health Care System (HCS)/Minot CBOC | 108 Burdick Expy East | Minot | ND | 58107 | 15 | $84,721.
Lincoln Housing Authority | Nebraska/Western Iowa VA Health Care System (HCS), Lincoln Community-Based Outreach Clinic (CBOC) | 5700 R St | Lincoln | NE | 68505 | 10 | $35,735.
Douglas County Housing Authority | Nebraska/Western Iowa VA Health Care System (HCS), Omaha VA Medical Center (VAMC) | 5404 N 107th Plaza | Omaha | NE | 68134 | 50 | $270,678.
Manchester Housing & Redevelopment Authority | Manchester VA Medical Center (VAMC) | 198 Hanover Street | Manchester | NH | 03104 | 20 | $168,584.
State of NJ Dept. of Comm. Affairs | New Jersey Health Care System (HCS), Lyons VA Medical Center (VAMC) | 101 South Broad Street | Trenton | NJ | 08625 | 75 | $665,055.
State of NJ Dept. of Comm. Affairs | Philadelphia VA Medical Center | 101 South Broad Street | Trenton | NJ | 08625 | 15 | $133,011.
City of Albuquerque Housing Authority | New Mexico VA Health Care System (HCS), Albuquerque VA Medical Center (VAMC) | 1840 University Blvd SE | Albuquerque | NM | 87106 | 20 | $82,356.
City of Albuquerque Housing Authority | New Mexico VA Health Care System (HCS), NW Metro Community-Based Outreach Clinic (CBOC) | 1840 University Blvd SE | Albuquerque | NM | 87106 | 15 | $61,767.
Bernalillo County Housing Department | New Mexico VA Health Care System (HCS), Albuquerque VA Medical Center (VAMC) | 1900 Bridge Boulevard SW | Albuquerque | NM | 87105 | 30 | $137,563.
Housing Authority of the County of San Juan | New Mexico VA Health Care System (HCS), Farmington Community-Based Outreach Clinic (CBOC) | 7450 East Main | Farmington | NM | 87402 | 15 | $65,305.
Housing Authority of the County of Socorro | New Mexico VA Health Care System (HCS), Albuquerque VA Medical Center (VAMC) | PO Box 00 | Socorro, | NM | 87801 | 15 | $78,478.
City of Reno Housing Authority | VA Sierra Nevada Health Care System (HCS), Reno Campus | 1525 E 9th Street | Reno | NV | 89512 | 45 | $279,493.
Southern Nevada Regional Housing Authority | VA Southern Nevada Health Care System (HCS), Las Vegas VA Medical Center (VAMC) | PO Box 1897 | Las Vegas | NV | 89125 | 250 | $1,831,710.
New York City Housing Authority | Bronx VA Medical Center (VAMC) | 250 Broadway | New York | NY | 10007 | 100 | $1,042,524.
New York City Housing Authority | New York Harbor Health Care System (HCS) | 250 Broadway | New York | NY | 10007 | 150 | $1,563,786.
Albany Housing Authority | Albany VA Medical Center (VAMC), Albany VA Medical Center (VAMC) | 200 South Pearl St | Albany | NY | 12202 | 30 | $137,581.
Rochester Housing Authority | Canandaigua VA Medical Center (VAMC), Rochester Outpatient Clinic (OPC) | 675 West Main St | Rochester | NY | 14611 | 30 | $147,496.
Town of Amherst | VA Western NY Health Care System (HCS), Buffalo VA Medical Center (VAMC) | 1195 Main St | Buffalo | NY | 14209 | 40 | $174,230.
NYC Dept of Housing Preservation and Development | Bronx VA Medical Center (VAMC), Bronx VA Medical Center (VAMC) | 100 Gold Street | New York | NY | 10038 | 25 | $313,185.
NYC Dept of Housing Preservation and Development | New York Harbor Health Care System (HCS) | 100 Gold Street | New York | NY | 10038 | 50 | $626,369.
NYS Housing Trust Fund Corporation | Bath VA Medical Center (VAMC), Elmira Community-Based Outreach Clinic (CBOC) | NYS Hcr Statewide Sec. 8 Voucher Program | New York | NY | 10004 | 20 | $185,988.
NYS Housing Trust Fund Corporation | Northport VA Medical Center (VAMC) | NYS Hcr Statewide Sec. 8 Voucher Program | New York | NY | 10004 | 65 | $604,461.
NYS Housing Trust Fund Corporation | Bronx VA Medical Center (VAMC) | NYS Hcr Statewide Sec. 8 Voucher Program | New York | NY | 10004 | 25 | $232,485.
Christopher Community, Village of Manilus | Syracuse VA Medical Center (VAMC) | 990 James St | Syracuse | NY | 13203 | 15 | $74,505.
Columbus Metropolitan Housing Authority | Columbus VA Medical Center (VAMC) | 880 East 11th Ave | Columbus | OH | 43211 | 60 | $320,854.
Youngstown Metropolitan Housing Authority | Cleveland VA Medical Center (VAMC), Youngstown Outpatient Clinic (OPC) | 131 W 131 Boardman St | Youngstown | OH | 44503 | 20 | $100,748.
Cuyahoga Metropolitan Housing Authority | Cleveland VA Medical Center (VAMC) | 1441 W 25th Street | Cleveland | OH | 44113 | 75 | $389,340.
Cincinnati Metropolitan Housing Authority | Cincinnati VA Medical Center (VAMC) | 1044 West Liberty | Cincinnati | OH | 45214 | 30 | $144,554.
Dayton Metropolitan Housing Authority | Dayton VA Medical Center (VAMC) | 400 Wayne Ave | Dayton | OH | 45401 | 20 | $81,888.
Lorain Metropolitan Housing Authority | Cleveland VA Medical Center (VAMC), Lorain Community-Based Outreach Clinic (CBOC) | 1600 Kansas Avenue | Lorain | OH | 44052 | 25 | $129,780.
Chillicothe Metropolitan Housing Authority | Chillicothe VA Medical Center (VAMC) | 178 W 4th Street | Chillicothe | OH | 45601 | 15 | $63,695.
Clermont Metropolitan Housing Authority | Cincinnati VA Medical Center (VAMC), Clermont County Community-Based Outreach Clinic (CBOC) | 65 S Market Street | Batavia | OH | 45103 | 10 | $45,509.
Fairfield Metropolitan Housing Authority | Chillicothe VA Medical Center (VAMC), Lancaster Community-Based Outreach Clinic (CBOC) | 315 N. Columbus Street | Lancaster | OH | 43130 | 15 | $76,253.
Lucas Metropolitan Housing Authority | VA Ann Arbor Health Care System, Toledo VA Outpatient Clinic | PO Box 477 | Toledo | OH | 43697 | 25 | $109,533.
Stark County | Cleveland VA Medical Center, Akron Community-Based Outreach Clinic | 400 Tuscarawas Street E | Canton | OH | 44702 | 25 | $117,391.
Ashtabula Metropolitan Housing Authority | Erie VA Medical Center | PO Box 2350 | Ashtabula | OH | 44005 | 15 | $90,417.
Cincinnati Metropolitan Housing Authority | Cincinnati VA Medical Center (VAMC), Hamilton VA HC Associates | 1044 West Liberty | Cincinnati | OH | 45214 | 10 | $48,185.
Darke County Metropolitan Housing Authority | Dayton VA Medical Center (VAMC) | 1469 Sweizer Street | Greenville | OH | 45331 | 15 | $53,921.
Housing Authority of the City of Oklahoma City | Oklahoma City VA Medical Center (VAMC) | 1700 NE 4th Street | Oklahoma City | OK | 73117 | 25 | $97,755.
Housing Authority of the City of Muskogee | Muskogee VA Medical Center (VAMC) | 220 North 40th Street | Muskogee | OK | 74401 | 25 | $86,033.
Oklahoma Housing Finance Agency | Oklahoma City VA Medical Center (VAMC) | Oklahoma Housing Finance Agency | Oklahoma City | OK | 73126 | 15 | $79,628.
Housing Authority of Portland | Portland VA Medical Center (VAMC) | 135 SW Ash Street | Portland | OR | 97204 | 55 | $349,483.
Housing Authority of Douglas County | VA Roseburg Health Care System (HCS) | 902 West Stanton Street | Roseburg | OR | 97470 | 20 | $49,397.
Housing Authority & Community Services of Lane County | VA Roseburg Health Care System (HCS), Eugene Community-Based Outreach Clinic (CBOC) | 177 Day Island Road | Eugene | OR | 97401 | 25 | $111,210.
Housing Authority of Jackson County | Southern Oregon—White City VA Rehab Center and Clinics | 2231 Table Rock Road | Medford | OR | 97501 | 45 | $194,443.
Klamath Housing Authority | Southern Oregon—White City VA Rehab Center and Clinics | 1445 Avalon St Office | Klamath Falls | OR | 97603 | 15 | $69,766.
Linn-Benton Housing Authority | VA Roseburg Health Care System (HCS) | 1250 SE Queen Ave | Albany | OR | 97322 | 15 | $66,015.
Housing Authority of Washington County | Portland VA Medical Center (VAMC), Hillsboro Community-Based Outreach Clinic (CBOC) | 111 NE Lincoln, Suite 200-L | Hillsboro | OR | 97124 | 35 | $203,897.
Josephine Housing Community Development Council | Southern Oregon—White City VA Rehab Center and Clinics | PO Box 1630 | Grants Pass | OR | 97528 | 15 | $72,947.
Central Oregon Regional Housing Authority | Portland VA Medical Center (VAMC), Bend Community-Based Outreach Clinic (CBOC) | 405 SW 6th Street | Redmond | OR | 97756 | 15 | $97,148.
Philadelphia Housing Authority | Philadelphia VA Medical Center (VAMC) | 12 S 23rd Street | Philadelphia | PA | 19103 | 50 | $349,362.
Allegheny County Housing Authority | VA Pittsburgh Health Care System (HCS) | 625 Stanwix Street | Pittsburgh | PA | 15222 | 50 | $216,147.
Housing Authority of the County of Butler | Butler VA Medical Center (VAMC) | 114 Woody Drive | Butler | PA | 16001 | 15 | $85,310.
Housing Authority of the County of Chester | Coatesville VA Medical Center (VAMC) | 30 W 30 Barnard St | West Chester | PA | 19382 | 35 | $250,261.
Wilkes Barre Housing Authority | Wilkes-Barre VA Medical Center (VAMC) | 50 Lincoln Plaza | Wilkes Barre | PA | 18702 | 25 | $131,007.
Housing Authority Providence | Providence VA Medical Center (VAMC) | 100 Broad Street | Providence | RI | 02903 | 15 | $99,016.
Puerto Rico Dept of Housing | VA Caribbean Health Care System, San Juan Campus | PO Box 21365 | San Juan | RQ | 00928 | 25 | $125,135.
Housing Authority of the City of Charleston | Charleston VA Medical Center (VAMC) | 550 Meeting Street | Charleston | SC | 29403 | 35 | $182,128.
Housing Authority of the City of Columbia | Columbia, SC VA Medical Center (VAMC) | 1917 Harden Street | Columbia | SC | 29204 | 50 | $222,003.
Housing Authority of Myrtle Beach | Charleston VA Medical Center (VAMC), Myrtle Beach Community-Based Outreach Clinic (CBOC) | PO Box 2468 | Myrtle Beach | SC | 29578 | 15 | $75,192.
Sioux Falls Housing and Redevelopment Commission | Sioux Falls VA Health Care System (HCS) | 630 S Minnesota Avenue | Sioux Falls | SD | 57104 | 10 | $56,112.
Memphis Housing Authority | Memphis VA Medical Center (VAMC) | PO Box 3664 | Memphis | TN | 38103 | 65 | $358,506.
Knoxville's Community Development Corp | Mountain Home VA Medical Center (VAMC), Knoxville Community-Based Outreach Clinic (CBOC) | PO Box 3550 | Knoxville | TN | 37927 | 25 | $113,217.
Metropolitan Development & Housing Agency | TN Valley Health Care System (HCS), Nashville Campus | 701 6th St | Nashville | TN | 37202 | 55 | $269,162.
Murfreesboro Housing Authority | TN Valley Health Care System (HCS), Murfreesboro Campus | 415 North Maple Street | Murfreesboro | TN | 37130 | 25 | $111,351.
Memphis Housing Authority | Memphis VA Medical Center | PO Box 3664 | Memphis | TN | 38103 | 15 | $82,732.
Austin Housing Authority | Temple VA Medical Center (VAMC) | PO Box 6159 | Austin | TX | 78762 | 50 | $350,946.
Housing Authority of the City of El Paso, TX | El Paso VA Health Care System (HCS) | 5300 E. Paisano Dr | El Paso | TX | 79905 | 25 | $114,626.
Housing Authority of Fort Worth | Dallas VA Medical Center (VAMC) | 1201 13th St | Fort Worth | TX | 76101 | 45 | $248,492.
Houston Housing Authority | Houston VA Medical Center (VAMC) | 2640 Fountain View | Houston | TX | 77057 | 100 | $595,944.
San Antonio Housing Authority | San Antonio VA Medical Center (VAMC) | PO Drawer 1300 | San Antonio | TX | 78295 | 25 | $137,352.
Corpus Christi Housing Authority | VA Texas Valley Coastal Bend Health Care System (HCS) | 3701 Ayers Street | Corpus Christi | TX | 78415 | 15 | $77,637.
Tarrant County Housing Assistance Office | Dallas VA Medical Center (VAMC) | 2100 Circle Drive #200 | Fort Worth | TX | 76119 | 15 | $104,965.
Bexar County Housing Authority | San Antonio VA Medical Center (VAMC) | 1017 N. Main Avenue | San Antonio | TX | 78212 | 80 | $361,039.
City of Amarillo | Amarillo VA Medical Center (VAMC) | PO Box 1971 | Amarillo | TX | 79101 | 20 | $106,173.
Central Texas Council of Governments | Temple VA Medical Center (VAMC) | PO Box 729 | Belton | TX | 76513 | 70 | $307,802.
Deep East Texas Council of Governments | Houston VA Medical Center (VAMC) | 210 Premier Drive | Jasper | TX | 75951 | 25 | $113,997.
Fort Worth HA | Dallas VA Medical Center, Fort Worth Community-Based Outreach Clinic | 1201 13th St | Fort Worth | TX | 76101 | 15 | $82,831.
Housing Authority of the City of Dallas, Texas | Dallas VA Medical Center | 3939 N. Hampton Road | Dallas | TX | 75212 | 80 | $473,155.
Harris County Housing Authority | Houston VA Medical Center | 8933 Interchange | Houston | TX | 77054 | 130 | $827,845.
Amarillo | Amarillo VA Medical Center | PO Box 1971 | Amarillo | TX | 79101 | 15 | $79,630.
Housing Authority of the County of Salt Lake | VA Salt Lake City Health Care System (HCS) | 3595 S Main Street | Salt Lake City | UT | 84115 | 25 | $149,628.
Housing Authority of Salt Lake City | VA Salt Lake City Health Care System (HCS) | 1776 S West Temple | Salt Lake City | UT | 84115 | 25 | $142,176.
Norfolk Redevelopment & Housing Authority | Hampton VA Medical Center (VAMC), Virginia Beach Community-Based Outreach Clinic (CBOC) | PO Box 968 | Norfolk | VA | 23501 | 15 | $125,835.
Richmond Redevelopment & Housing Authority | Richmond VA Medical Center (VAMC) | PO Box 26887 | Richmond | VA | 23261 | 15 | $102,834.
Hampton Redevelopment & Housing Authority | Hampton VA Medical Center (VAMC) | PO Box 280 | Hampton | VA | 23669 | 35 | $244,096.
Virginia Beach Dept. of Housing & Neighborhood Preservation | Hampton VA Medical Center (VAMC), Virginia Beach Community-Based Outreach Clinic (CBOC) | Princess Anne Park | Virginia Beach | VA | 23456 | 30 | $234,594.
Prince William County Office of Housing and Community Development | Washington, DC VA Medical Center (VAMC), Ft. Belvoir Outpatient Clinic (OPC) | 15941 Donald Curtis Drive, Suite 112 | Woodbridge | VA | 22191 | 15 | $170,129.
Virginia Housing Development Authority | Richmond VA Medical Center (VAMC) | PO Box 4545 | Richmond | VA | 23220 | 35 | $280,209.
Fairfax County Redevelopment & Housing Authority | Washington, DC VA Medical Center, Ft. Belvoir Outpatient Clinic | 3700 Pender Drive | Fairfax | VA | 22030 | 15 | $168,417.
Prince William County Office of Hcd | Washington DC VA Medical Center, Alexandria Community-Based Outreach Clinic | 15941 Donald Curtis Drive, Suite 112 | Woodbridge | VA | 22191 | 5 | $56,710.
Vermont State Housing Authority | White River Junction VA Medical Center (VAMC) | 1 Prospect Street | Montpelier | VT | 05602 | 20 | $120,468.
Seattle Housing Authority | VA Puget Sound, Seattle Campus | 190 Queen Anne Ave N | Seattle | WA | 98109 | 35 | $252,294.
HA of King County | VA Puget Sound, Seattle Campus | 600 Andover Park West | Seattle | WA | 98188 | 40 | $324,163.
HA City of Tacoma | VA Puget Sound, American Lake Campus | 902 S L Street | Tacoma | WA | 98405 | 15 | $89,950.
Housing Authority of the City of Vancouver | Portland VA Medical Center (VAMC), Vancouver Campus | 2500 Main Street | Vancouver | WA | 98660 | 30 | $155,347.
Housing Authority of Snohomish County | VA Puget Sound VA Medical Center (VAMC), Everett Community-Based Outreach Clinic (CBOC) | 12625 4th Avenue W | Everett | WA | 98204 | 15 | $118,359.
HA of Pierce County | VA Puget Sound VA Medical Center (VAMC), American Lake Campus | PO Box 45410 | Tacoma | WA | 98445 | 15 | $103,198.
HA City of Spokane | Spokane VA Medical Center (VAMC) | 55 W Mission Avenue | Spokane | WA | 99201 | 75 | $332,397.
HA City of Walla Walla | Walla Walla VA Medical Center (VAMC), Richland Community-Based Outreach Clinic (CBOC) | 501 Cayuse Street | Walla Walla | WA | 99362 | 35 | $140,763.
Madison Community Development Authority | Madison VA Medical Center (VAMC) | PO Box 1785 | Madison | WI | 53701 | 25 | $146,028.
Wisconsin Housing & Economic Development Authority | Clement J. Zablocki VAMC | PO Box 1728 | Madison | WI | 53701 | 25 | $120,153.
Housing Authority of the City of Milwaukee | Clement J. Zablocki VAMC | PO Box 324 | Milwaukee | WI | 53201 | 30 | $136,998.
Wisconsin Housing & Economic Development Authority | Tomah VA Medical Center (VAMC) | PO Box 1728 | Madison | WI | 53701 | 30 | $144,184.
Charleston/Kanawha Housing Authority | Huntington VA Medical Center (VAMC) | PO Box 86 | Charleston | WV | 25321 | 20 | $96,229.
Raleigh County | Beckley VA Medical Center | PO Box 2618 | Beckley | WV | 25802 | 30 | $105,953.
Housing Authority of the City of Cheyenne | Sheridan VA Medical Center (VAMC), Gillette Community-Based Outreach Clinic (CBOC) | 3304 Sheridan Street | Cheyenne | WY | 82009 | 15 | $66,735.
Housing Authority of the City of Cheyenne | Cheyenne VA Medical Center (VAMC) | 3304 Sheridan Street | Cheyenne | WY | 82009 | 15 | $66,735.
Rock Springs Housing Authority | Sheridan VA Medical Center (VAMC), Rock Springs Community-Based Outreach Clinic (CBOC) | 233 C Street | Rock Springs | WY | 82901 | 15 | $73,452.
FY2013 HUD VASH |  |  |  |  |  | Total vouchers | 1 Year Budget Authority For Vouchers Awarded.
Grand Total |  |  |  |  |  | Awarded 9,820 | $68,039,758.

[FR Doc. 2014-25268 Filed 10-22-14; 8:45 am]

BILLING CODE 4210-67-P